DEPARTMENT OF ENERGY

Federal Energy Regulatory Commission

Combined Notice of Filings #1

Take notice that the Commission received the following electric corporate filings:

Docket Numbers: EC15-62-000; EC15-63-000.

Applicants: Roth Rock Wind Farm, LLC, Roth Rock North Wind Farm, LLC, TPW Petersburg, LLC.

Description: Supplement to January 21, 2015 Applications for Authorization under Section 203 of the Federal Power Act of Roth Rock Wind Farm, LLC, Roth Rock North Wind Farm, LLC and TPW Petersburg, LLC.

Filed Date: 2/13/15.

Accession Number: 20150213-5137.

Comments Due: 5 p.m. ET 2/24/15.

Take notice that the Commission received the following exempt wholesale generator filings:

Docket Numbers: EG15-52-000.

Applicants: Buckeye Wind Energy LLC.

Description: Notice of Self-Certification of Exempt Wholesale Generator Status of Buckeye Wind Energy LLC.

Filed Date: 2/20/15.

Accession Number: 20150220-5127.

Comments Due: 5 p.m. ET 3/13/15.

Take notice that the Commission received the following electric rate filings:

Docket Numbers: ER11-5-004; ER11-6-003; ER13-131-003; ER14-479-002; ER14-950-002; ER15-515-002.

Applicants: Great Bay Energy I, LLC, Great Bay Energy IV, LLC, Great Bay Energy LLC, Great Bay Energy V, LLC, Great Bay Energy VI, LLC, Great Bay Energy VII, LLC.

Description: Notice of Non-Material Change in Status of the Great Bay Energy Companies.

Filed Date: 2/19/15.

Accession Number: 20150219-5214.

Comments Due: 5 p.m. ET 3/12/15.

Docket Numbers: ER12-2499-010; ER12-2498-010; ER13-764-010; ER11-4055-004; ER12-1566-004; ER14-1548-002; ER12-1470-004; ER10-2977-004; ER11-3987-005; ER14-474-002; ER10-1290-005; ER10-3026-004.

Applicants: Alpaugh North, LLC.

Description: Supplement to January 9, 2015 Notice of Non-Material Change in Status of the Sempra Energy Sellers.

Filed Date: 2/19/15.

Accession Number: 20150219-5215.

Comments Due: 5 p.m. ET 3/12/15.

Docket Numbers: ER13-2376-003.

Applicants: Midcontinent Independent System Operator, Inc., Northern Indiana Public Service Company.

Description: Compliance filing per 35: 2015-02-20_Att O NIPSCO Rate Formula Protocol Compliance Filing to be effective 1/1/2014.

Filed Date: 2/20/15.

Accession Number: 20150220-5100.

Comments Due: 5 p.m. ET 3/13/15.

Docket Numbers: ER13-2379-005.

Applicants: Midcontinent Independent System Operator, Inc.

Description: Compliance filing per 35: 2015-02-20_Attachment O CMMPA Rate Protocol Compliance Filing to be effective 1/1/2014.

Filed Date: 2/20/15.

Accession Number: 20150220-5135.

Comments Due: 5 p.m. ET 3/13/15.

Docket Numbers: ER15-828-001.

Applicants: Louisville Gas and Electric Company.

Description: Tariff Amendment per 35.17(b): Modifications to Attach O to be effective 2/1/2015.

Filed Date: 2/20/15.

Accession Number: 20150220-5054.

Comments Due: 5 p.m. ET 3/13/15.

Docket Numbers: ER15-1073-000.

Applicants: Midcontinent Independent System Operator, Inc.

Description: § 205(d) rate filing per 35.13(a)(2)(iii): 2015-02-19_SA 2165 Ameren-Settlers Trail 3rd Rev. GIA (G931/J276) to be effective 2/20/2015.

Filed Date: 2/19/15.

Accession Number: 20150219-5168.

Comments Due: 5 p.m. ET 3/12/15.

Docket Numbers: ER15-1074-000.

Applicants: Alabama Power Company.

Description: § 205(d) rate filing per 35.13(a)(2)(iii): Albany Green Energy LGIA Filing to be effective 2/6/2015.

Filed Date: 2/20/15.

Accession Number: 20150220-5000.

Comments Due: 5 p.m. ET 3/13/15.

Docket Numbers: ER15-1075-000.

Applicants: Public Service Company of Colorado.

Description: § 205(d) rate filing per 35.13(a)(2)(iii): 2015-2-20_PSC-WAPA-Rsdl-Const Agrmt-378-0.1.0-Filing to be effective 2/21/2015.

Filed Date: 2/20/15.

Accession Number: 20150220-5050.

Comments Due: 5 p.m. ET 3/13/15.

Docket Numbers: ER15-1076-000.

Applicants: PJM Interconnection, L.L.C.

Description: § 205(d) rate filing per 35.13(a)(2)(iii): Original Service Agreement No. 4082; Queue No. Z1-015 to be effective 1/21/2015.

Filed Date: 2/20/15.

Accession Number: 20150220-5061.

Comments Due: 5 p.m. ET 3/13/15.

Docket Numbers: ER15-1077-000.

Applicants: Kansas Gas and Electric Company.

Description: Notice of Cancellation of Westar Energy, Inc. on behalf of Kansas Gas and Electric Company of Certificate of Concurrence to Rate Schedule No. 99.

Filed Date: 2/19/15.

Accession Number: 20150219-5212.

Comments Due: 5 p.m. ET 3/12/15.

Docket Numbers: ER15-1078-000.

Applicants: Midcontinent Independent System Operator, Inc., ITC Midwest LLC.

Description: § 205(d) rate filing per 35.13(a)(2)(iii): 2015-02-20_SA 1925 ITC Midwest-Interstate Power and Light D-TIA to be effective 2/21/2015.

Filed Date: 2/20/15.

Accession Number: 20150220-5095.

Comments Due: 5 p.m. ET 3/13/15.

Docket Numbers: ER15-1079-000.

Applicants: Midcontinent Independent System Operator, Inc., South Mississippi Electric Power Association.

Description: § 205(d) rate filing per 35.13(a)(2)(iii): 2015-02-20_SMEPA Attachment O Filing to be effective 6/1/2015.

Filed Date: 2/20/15.

Accession Number: 20150220-5125.

Comments Due: 5 p.m. ET 3/13/15.

Docket Numbers: ER15-1080-000.

Applicants: Beethoven Wind, LLC.

Description: Initial rate filing per 35.12 Market-Based Rate Application to be effective 2/27/2015.

Filed Date: 2/20/15.

Accession Number: 20150220-5126.

Comments Due: 5 p.m. ET 3/13/15.

Docket Numbers: ER15-1081-000.

Applicants: Florida Power & Light Company.

Description: § 205(d) rate filing per 35.13(a)(2)(iii): FPL's Revised Delivery Point for Transmission Service Agreement No. 162 to be effective 4/1/2015.

Filed Date: 2/20/15.

Accession Number: 20150220-5164.

Comments Due: 5 p.m. ET 3/13/15.

Take notice that the Commission received the following public utility holding company filings:

Docket Numbers: PH15-10-000.

Applicants: Starwood Energy Group Global, L.L.C.

Description: Starwood Energy Group Global, L.L.C. submits FERC 65-B Material Change in Facts of Waiver Notification.

Filed Date: 2/20/15.

Accession Number: 20150220-5161.

Comments Due: 5 p.m. ET 3/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 20, 2015.
Nathaniel J. Davis, Sr.,
Deputy Secretary.

[FR Doc. 2015-04019 Filed 2-25-15; 8:45 am]

BILLING CODE 6717-01-P